DEPARTMENT OF AGRICULTURE

Forest Service

Intent To Establish Secure Rural Schools Resource Advisory Committee and Solicitation of Nominations for Membership for Secure Rural Schools Resource Advisory Committee

AGENCY: Forest Service, Agriculture (USDA).

ACTION: Notice of Establishment for Secure Rural Schools Resource Advisory Committee and Solicitation of Nominations for Membership.

SUMMARY: In accordance with the Secure Rural Schools (SRS) and Community Self-Determination Act of 2000 as amended, codified in Agricultural Improvement Act of 2018, and the Federal Advisory Committee Act (FACA), as amended, the United States Department of Agriculture announces its intent to renew the charter for 80 Secure Rural Schools Resource Advisory Committees (RACs) and establish six new RACs through merger/consolidation. The Secure Rural Schools Advisory Committees will advise the Secretary of Agriculture on proposed recommendations and other such matters as the Secretary determines. The Secure Rural Schools Resource Advisory Committees will be governed by the provisions of FACA. Duration of Secure Rural Schools Resource Advisory Committees are for two years unless renewed by the Secretary, USDA. This notice also solicits nominations for membership on the Secure Rural Schools Resource Advisory Committees.

DATES: Written nominations must be submitted via email or postmarked within 90 days following the publication date of this notice. A completed application packet includes the nominee's name, resume, and completed Form AD-755 (Advisory Committee or Research and Promotion Background Information, https://www.usda.gov/sites/default/files/documents/ad-755.pdf). All completed application packets must be sent to the addresses below.

ADDRESSES:

Northern Regional Office—Region I

Central Montana RAC, Flathead RAC, Gallatin RAC, Idaho Panhandle RAC, Lincoln RAC, Mineral County RAC, Missoula RAC, Missouri River RAC, North Central Idaho RAC, Ravalli RAC, Sanders RAC, Southern Montana RAC, Southwest Montana RAC, Tri-County RAC

Jeffery Miller, Northern Regional Coordinator, Forest Service, 26 Fort Missoula Road, Missoula, Montana 59804, (406) 329-3576, jeffrey.m.miller@usda.gov.

Rocky Mountain Regional Office—Region II

Black Hills RAC and Greater Rocky Mountain RAC

David Boyd, Rocky Mountain Regional Coordinator, Forest Service, 1617 Cole Boulevard, Building 17, Lakewood, Colorado 80401, david.boyd@usda.gov, (970) 319-4895.

Southwestern Regional Office—Region III

Coconino County RAC, Eastern Arizona RAC, Northern New Mexico RAC, Southern Arizona RAC, Southern New Mexico RAC, Yavapai RAC

Erick Stemmerman, Southwestern Regional Coordinator, Forest Service, 333 Broadway SE, Albuquerque, New Mexico 87102, (575) 654-3278, erick.stemmerman@usda.gov.

Intermountain Regional Office—Region IV

Alpine RAC, Bridger-Teton RAC, Central Idaho RAC, Dixie RAC, Eastern Idaho RAC, Fishlake RAC, Lyon-Mineral RAC, Manti-La Sal RAC, Northern Utah RAC, South Central Idaho RAC, Southwest Idaho RAC, Rural Nevada RAC

Hannah Lenkowski, Intermountain Regional Coordinator, Forest Service, 355 North Vernal Avenue, Vernal, UT 84078, hannah.lenkowski@usda.gov, 385-517-0972.

Pacific Southwest Regional Office—Region V

Butte County RAC, Del Norte County RAC, El Dorado County RAC, Fresno County RAC, Glenn and Colusa Counties RAC, Humboldt County RAC, Kern and Tulare Counties RAC, Lassen County RAC, Mendo-Lake County RAC, Modoc County RAC, Nevada and Placer Counties RAC, Plumas County RAC, Shasta County RAC, Sierra County RAC, Siskiyou County RAC, Tehama RAC, Trinity County RAC, Tuolumne and Mariposa Counties RAC

Paul Wade, Pacific Southwest Regional Coordinator, Forest Service, 1323 Club Drive, Vallejo, California 94592, (707) 562-9010, paul.r.wade@usda.gov.

Pacific Northwest Regional Office—VI

Columbia County RAC, Colville RAC, Deschutes and Ochoco RAC, Fremont and Winema RAC, Hood and Willamette RAC, Gifford Pinchot RAC, North Mt. Baker-Snoqualmie RAC, Northeast Oregon Forests RAC, Olympic Peninsula RAC, Rogue and Umpqua RAC, Siskiyou (OR) RAC, Siuslaw RAC, Snohomish-South Mt. Baker-Snoqualmie RAC, Southeast Washington Forest RAC, Wenatchee-Okanogan RAC

Yewah Lau, Pacific Northwest Regional Office, Forest Service, 295142 Highway 101 South, Quilcene, Washington 98379, (360) 981-9101, yewah.lau@usda.gov.

Southern Regional Office—Region VIII

Alabama RAC, Cherokee RAC, Daniel Boone RAC, Davy Crockett RAC, Florida National Forests RAC, Francis Marion-Sumter RAC, Kisatchie RAC, Ozark-Ouachita RAC, Sabine-Angelina RAC, National Forests in Mississippi RAC, Virginia RAC

Sheila Holifield, Southern Regional Coordinator, Forest Service, 1720 Peachtree Road, Northwest, Atlanta, Georgia 30309, (205) 517-9033, sheila.holifield@usda.gov.

Eastern Regional Office—Region IX

Allegheny RAC, Chippewa National Forest RAC, Eleven Point RAC, Hiawatha RAC, Huron-Manistee RAC, North Wisconsin RAC, Ottawa RAC, Superior RAC, West Virginia RAC

Tiffany Benna, Eastern Regional Coordinator, Forest Service, 71 White Mountain Drive, Campton, New Hampshire 03223, (603) 348-0078, tiffany.benna@usda.gov.

Alaska Regional Office—Region X

Kenai Peninsula-Anchorage Borough RAC, North Tongass RAC, Prince William Sound RAC, South Tongass RAC

Carlos De La Torre, Alaska Regional Coordinator, Forest Service, 709 West 9th Street, Room 561C, Juneau, Alaska 99801-1807, carlos.DeLatorre@usda.gov, 907-738-2758.

FOR FURTHER INFORMATION CONTACT: Brianna Gallegos, National Partnership Coordinator, National Partnership Office, USDA Forest Service, Yates Building, 1400 Independence Avenue, Mailstop #1158, Washington, DC 20250, by email to SM.FS.SRSInbox@usda.gov, or call 505-218-1535. Individuals who use telecommunication devices for the deaf and hard-of-hearing (TDD) may call the Federal Relay Service at 1-800-877-8339, 24 hours per day, every day of the week, including holidays.

SUPPLEMENTARY INFORMATION: The Secure Rural Schools and Community Self-Determination Act of 2000, as amended, 16 U.S.C. 7125, directs the Secretary of Agriculture to create Secure Rural Schools Advisory Committees to provide advice and recommendations to the Forest Service concerning projects and funding consistent with SRS Title II of the Act. The duties of SRS RACs include monitoring projects, advising the Secretary on the progress and results of monitoring efforts, and making recommendations to the Forest Service for any appropriate changes or adjustments to the projects being monitored by the SRS RACs.

This charter renewal will establish six new committees as follows: Helena-Lewis and Clark RAC in Region 1 by consolidating the Central Montana and Missouri River RACs; the Southern Utah RAC in Region 4 by consolidating Dixie, Fishlake, and Manti-La Sal RACs; Nevada RAC in Region 4 by consolidating Rural Nevada and Lyon-Mineral RACs; the Mt. Baker-Snoqualmie National Forest RAC in Region 6 by consolidating Snohomish-South Mt. Baker-Snoqualmie and North Mt. Baker-Snoqualmie RACs; Umatilla Washington RAC in Region 6 by consolidating Columbia County and Southeast Washington RACs; El Yunque RAC in Region 8.

Meetings for the Secure Rural Schools Advisory Committees will be published on the Federal Register website at least 15 days prior to the meeting date at: www.federalregister.gov. The SRS RACs will be comprised of 15 members. Members must be approved by the Secretary of Agriculture. The SRS RACs shall include representation from the following interest areas:

1. Five persons who represent:

a. Organized Labor or Non-Timber Forest Product Harvester Groups,

b. Developed Outdoor Recreation, Off Highway Vehicle Users, or Commercial Recreation Activities,

c. Energy and Mineral Development, or Commercial or Recreational Fishing Interests,

d. Commercial Timber Industry, or

e. Federal Grazing or Other Land Use Permits, or Represent NonIndustrial Private Forest Land Owners, within the area for which the committee is organized.

2. Five persons who represent:

a. Nationally Recognized Environmental Organizations,

b. Regionally or Locally Recognized Environmental Organizations,

c. Dispersed Recreational Activities,

d. Archaeological and Historical Interests, or

e. Nationally or Regionally Recognized Wild Horse and Burro Interest Groups, Wildlife or Hunting Organizations, or Watershed Associations.

3. Five persons who represent:

a. State Elected Office (or a designee),

b. County or Local Elected Office,

c. American Indian Tribes within or adjacent to the area for which the committee is organized,

d. Area School Officials or Teachers, or

e. Affected Public at Large.

Each member will serve a 4-year term.

Balanced representation: In appointing committee members from the 3 categories above, the Secretary shall provide for balanced and broad representation from within each category. In addition, SRS RACs membership will be balanced in terms of the points of view represented and functions to be performed.

Of these members, one will become the Chairperson who is recognized for their ability to lead a group in a fair and focused manner and who has been briefed on the mission of the RAC. A chairperson is selected by a majority of RAC members. The Committee will meet on an annual basis or as needed and determined by the Agency.

In the event that a vacancy arises, the Designated Federal Officer (DFO) may fill the vacancy in the manner in which the original appointments were made. In accordance with the SRS Act, members of the SRS RAC shall serve without compensation. SRS RAC members may be allowed travel and per diem expenses for attendance at committee meetings, subject to approval of the DFO responsible for administrative support to the SRS RAC.

Any interested person or organization may nominate qualified individuals for membership. Interested candidates may nominate themselves. Individuals who wish to be considered for membership on the Secure Rural Schools Advisory Committee must submit a nomination with information, including a background disclosure form (Form AD-755). Nominations should be typed and include the following:

(1) If nominating an individual, a brief summary, no more than two pages, explaining the nominee's qualifications to serve on the Secure Rural Schools Advisory Committee and addressing the membership composition and criteria described above.

(2) A resume providing the nominee's background, experience, and educational qualifications.

(3) A completed background disclosure form (Form AD-755) signed by the nominee. https://www.usda.gov/sites/default/files/documents/ad-755.pdf.

(4) Letters of endorsement are optional.

Equal opportunity practices in accordance with USDA policies shall be followed in all appointments to the SRS RACs. To ensure that the recommendations of the SRS RACs have taken into account the needs of the diverse groups served by USDA, membership will, to the extent practicable, include individuals with demonstrated ability to represent all racial and ethnic groups, women and men, and persons with disabilities.

Dated: December 13, 2023.
Cikena Reid,
USDA Committee Management Officer.

[FR Doc. 2023-27745 Filed 12-15-23; 8:45 am]

BILLING CODE 3411-15-P